DEPARTMENT OF DEFENSE

Office of the Secretary

[Transmittal No. 22-05]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-05 with attached Policy Justification.

Dated: May 25, 2023.
Aaron T. Siegel,
Alternate OSD Federal Register Liaison Officer, Department of Defense.

BILLING CODE 5001-06-P

BILLING CODE 5001-06-C

Transmittal No. 22-05

Notice of Proposed Issuance of Letter of Offer Pursuant to Section 36(b)(1) of the Arms Export Control Act, as amended

(i) Prospective Purchaser: Government of Greece

(ii) Total Estimated Value:

Major Defense Equipment * | $ 0 million
Other | $233 million
TOTAL | $233 million

Funding Source: National Funds

(iii) Description and Quantity or Quantities of Articles or Services under consideration for Purchase:

Major Defense Equipment (MDE):

None

Non-MDE:

Included are parts and services to support follow-on depot level maintenance and sustainment of F100-PW-229 engines to include spare, repair parts, and accessories; repair and return services; publications and technical documentation; U.S. Government and contractor engineering, technical, and logistical services; and other related elements of logistical and program support.

(iv) Military Department: Air Force (GR-D-QAK)

(v) Prior Related Cases, if any: GR-D-SNX, GR-D-SNY, GR-D-QCG

(vi) Sales Commission, Fee, etc. Paid, Offered, or Agreed to be Paid: None

(vii) Sensitivity of Technology Contained in Defense Article or Defense Services Proposed to be Sold: None

(viii) Date Report Delivered to Congress: January 12, 2022

* As defined in Section 47(6) of the Arms Export Control Act.

POLICY JUSTIFICATION

Greece—Follow-on Support for F100-PW-229 Engine Maintenance

The Government of Greece has requested to buy parts and services to support follow-on depot level maintenance and sustainment of F100-PW-229 engines to include spare, repair parts, and accessories; repair and return services; publications and technical documentation; U.S. Government and contractor engineering, technical, and logistical services; and other related elements of logistical and program support. The overall total estimated value is $233 million.

This proposed sale will support the foreign policy and national security objectives of the United States by helping to improve the security of a NATO ally, which is an important partner for political stability and economic progress in Europe.

The proposed sale will improve Greece's capability to meet current and future threats by providing greater depth of repair capability for engines on their F-16 Block 52+/52+ Advanced aircraft, sustaining their weapon system, and improving aircraft capability rates. Greece has demonstrated a continued commitment to modernizing its military and will have no difficulty absorbing this additional sustainment support into its armed forces.

The proposed sale of these services will not alter the basic military balance in the region.

There are no principal contractors for this proposed sale. There are no known offset agreements proposed in connection with this potential sale.

Implementation of this proposed sale will not require the assignment of any additional U.S. Government or contractor representatives outside the United States.

There will be no adverse impact on U.S. defense readiness as a result of this proposed sale.

[FR Doc. 2023-11586 Filed 5-31-23; 8:45 am]

BILLING CODE 5001-06-P